ENVIRONMENTAL PROTECTION AGENCY

40 CFR Part 52

[MT-001-00010; MT-001-0028; FRL-7231-4]

Approval and Promulgation of Air Quality Implementation Plans; Montana; Billings/Laurel Sulfur Dioxide State Implementation Plan; Correction

AGENCY: Environmental Protection Agency (EPA).

ACTION: Proposed rule; correction.

SUMMARY: On May 2, 2002, EPA proposed to partially and limitedly approve and limitedly disapprove revisions to the Billings/Laurel sulfur dioxide (SO2) State Implementation Plan (SIP). EPA noticed an error in the May 2, 2002 document and is correcting it with this document.

DATES: Written comments on the May 2, 2002 proposed rule must be received on or before July 1, 2002.

FOR FURTHER INFORMATION CONTACT: Laurie Ostrand, EPA, Region VIII, (303) 312-6437.

Correction

Our May 2, 2002 document, in which we proposed partial and limited approval and limited disapproval of the Billings/Laurel SO2 SIP (67 FR 22242) (FR Doc. 02-10333), is corrected as follows:

On page 22246, first column, Section IV. Request for Public Comment, the last sentence should read as follows: “We will consider your comments in deciding our final action if your letter is received on or before July 1, 2002.”

As published on May 2, 2002, the sentence incorrectly listed the comment deadline as “[W]e will consider your comments in deciding our final action if your letter is received before [insert date, 30 days from publication].” The correct deadline for submitting comments appeared in the Dates section of the May 2, 2002 notice, first column of 67 FR 22242.

Dated: June 6, 2002.
Robert E. Roberts,
Regional Administrator, Region 8.

[FR Doc. 02-15091 Filed 6-13-02; 8:45 am]

BILLING CODE 6560-50-P